JUDICIAL CONFERENCE OF THE UNITED STATES

Meeting of the Judicial Conference Advisory; Committee on Rules of Appellate Procedure

AGENCY: Advisory Committee on Rules of Appellate Procedure, Judicial Conference of the United States.

ACTION: Notice of open meeting.

SUMMARY: The Advisory Committee on Rules of Appellate Procedure will hold a meeting on April 5, 2016, which will continue the morning of April 6, 2016, if necessary. The meeting will be open to public observation but not participation. An agenda and supporting materials will be posted at least 7 days in advance of the meeting at: http://www.uscourts.gov/rules-policies/records-and-archives-rules-committees/agenda-books.

DATES: April 5-6, 2016.

Time: 9:00 a.m. to 5:00 p.m.

ADDRESSES: Colorado Supreme Court, 2 East 14th Avenue, Conference Room C4244, Denver, CO 80203.

FOR FURTHER INFORMATION CONTACT: Rebecca A. Womeldorf, Rules Committee Secretary, Rules Committee Support Office, Administrative Office of the United States Courts, Washington, DC 20544, telephone (202) 502-1820.

Dated: February 17, 2016.
Rebecca A. Womeldorf,
Rules Committee Secretary.

[FR Doc. 2016-03865 Filed 2-23-16; 8:45 am]

BILLING CODE 2210-55-P